ENVIRONMENTAL PROTECTION AGENCY

[EPA-HQ-OAR-2007-0358; FRL-10925-01-OAR]

Proposed Agency Information Collection Request; Comment Request; Responsible Appliance Disposal Program (Renewal)

AGENCY: Environmental Protection Agency (EPA).

ACTION: Notice.

SUMMARY: The Environmental Protection Agency (EPA) is planning to submit an information collection request (ICR), “EPA's Responsible Appliance Disposal Program (RAD) Program (Renewal)” (EPA ICR Number 2254.04, OMB Control Number 2060-0703) to the Office of Management and Budget (OMB) for review and approval in accordance with the Paperwork Reduction Act. Before doing so, EPA is soliciting public comments on specific aspects of the proposed information collection as described below. This is a proposed extension of the ICR, which is currently approved through January 31, 2024. An agency may not conduct or sponsor and a person is not required to respond to a collection of information unless it displays a currently valid OMB control number.

DATES: Comments must be submitted on or before August 7, 2023.

ADDRESSES: Submit your comments, referencing Docket ID Number EPA-HQ-OAR-2007-0358, online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Sally Hamlin, Stratospheric Protection Division, Office of Atmospheric Programs (mail code 6205T), Environmental Protection Agency, 1200 Pennsylvania Ave. NW, Washington, DC 20460; telephone number: (202) 343-9711; email address: Hamlin.Sally@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Responsible Appliance Disposal Program (RAD) is a voluntary partnership program sponsored by the Environmental Protection Agency (EPA) that reduces emissions of ozone-depleting substances (ODS) and their substitutes, including hydrofluorocarbons (HFCs), that can be attributed to improper disposal of appliances. Appliances can contain ODS or HFC refrigerants and foams as well as universal wastes such as mercury, used oil, and polychlorinated biphenyls (PCB). Federal law requires refrigerant recovery and proper management of universal waste but does not require the recovery of appliance foam. Foam blowing agents and refrigerants in appliances may also have high ozone-depletion and/or global warming potentials. The RAD program works with utilities, retailers, manufacturers, federal agencies/states/municipalities, waste removal service providers, affiliates, and others to dispose of appliances using best environmental practices.

Form numbers: 5900-481; 5900-482.

Respondents/affected entities: The following is a list of North American Industry Classification System (NAICS) codes for organizations potentially affected by the information requirements covered under this ICR are Utilities (2211), Manufacturers (3352), Retailers (449210), federal agencies/states/municipalities (9924110), and Waste Removal Service Providers (56211).

Respondent's obligation to respond: Voluntary.

Estimated number of respondents: 52 (over three years).

Frequency of response: Annual, and when desired.

Total estimated burden: 292 hours (per year). Burden is defined at 5 CFR 1320.03(b).

Total estimated cost: $43,702 (per year), includes $0 annualized capital or operation & maintenance costs.

Changes in estimates: There is no change to the total estimated respondent burden compared with the 292 hours for the ICR currently approved by OMB. While the total number of respondents increased, the number of expected new Partners decreased. Therefore, the increase in burden associated with existing Partner activities is offset by the decrease in burden associated with new Partner activities.

Cynthia A. Newberg,
Director, Stratospheric Protection Division.

[FR Doc. 2023-12224 Filed 6-7-23; 8:45 am]

BILLING CODE 6560-50-P